DEPARTMENT OF TRANSPORTATION

Federal Highway Administration

Environmental Impact Statement; Manatee and Hillsborough Counties, Florida

AGENCY: Federal Highway Administration (FHWA), DOT.

ACTION: Notice of Intent.

SUMMARY: The FHWA is issuing this notice of cancellation to advise the public that we are no longer preparing an Environmental Impact Statement (EIS) for the proposed Port Manatee Connector in Manatee and Hillsborough Counties, Florida. This is formal cancellation of the Notice of Intent that was published in the Federal Register on March 5, 2009.

FOR FURTHER INFORMATION CONTACT: Ms. Cathy Kendall, Senior Environmental Specialist, Federal Highway Administration, 3500 Financial Plaza, Suite 400, Tallahassee, Florida 32312; Telephone: (850) 553-2225.

SUPPLEMENTARY INFORMATION: The Notice of Intent to prepare an EIS was to improve access between Port Manatee and Interstate 75 (I-75). The Notice of Intent to prepare an EIS is rescinded.

(Catalog of Federal Domestic Assistance Program Number 20.205, Highway Research, Planning and Construction. The regulations implementing Executive Order 12372 regarding intergovernmental consultation on Federal programs and activities apply to this program.)

Cathy Kendall,
Senior Environmental Specialist, Tallahassee, Florida.

[FR Doc. 2015-26443 Filed 10-16-15; 8:45 am]

BILLING CODE 4910-22-P